DEPARTMENT OF THE INTERIOR

Fish and Wildlife Service

50 CFR Part 17

[Docket No. FWS-R1-ES-2022-0062; FXES11130900000C6-256-FF09E42000]

RIN 1018-BG77

Endangered and Threatened Wildlife and Plants; Technical Corrections for 62 Wildlife and Plant Species on the Lists of Endangered and Threatened Wildlife and Plants; Hawaiian Hoary Bat; Correction

AGENCY: Fish and Wildlife Service, Interior.

ACTION: Final rule; correction.

SUMMARY: We, the U.S. Fish and Wildlife Service (Service), are publishing this document to correct an error in the listing of the Hawaiian hoary bat (Lasiurus cinereus semotus).

DATES: This document is effective December 23, 2024.

FOR FURTHER INFORMATION CONTACT: Carolyn Menke, Recovery Manager, U.S. Fish and Wildlife Service, Pacific Regional Office, Ecological Services, 911 NE 11th Avenue, Portland, OR 97232; telephone 503-231-6131. Individuals in the United States who are deaf, deafblind, hard of hearing, or have a speech disability may dial 711 (TTY, TDD, or TeleBraille) to access telecommunications relay services. Individuals outside the United States should use the relay services offered within their country to make international calls to the point-of- contact in the United States.

SUPPLEMENTARY INFORMATION: On February 2, 2023, we published in the Federal Register (88 FR 7134) a direct final rule to make technical corrections to 62 wildlife and plant species on the Lists of Endangered and Threatened Wildlife and Plants in title 50 of the Code of Federal Regulations (CFR) at §§ 17.11 and 17.12, respectively. One of these species was the Hawaiian hoary bat. We planned to update its scientific name to Aeorestes semotus and add the common name `ōpe`ape`a to its listing.

On April 24, 2023, based on comments we received on the February 2, 2023, direct final rule relating to scientific research relevant to the Hawaiian hoary bat's taxonomic classification, we published a document in the Federal Register (88 FR 24712) withdrawing the amendment in the direct final rule for the Hawaiian hoary bat only.

In 2024, during an internal Service review, we erroneously identified the Hawaiian hoary bat listing in the February 2, 2023, direct final rule as an amendment that had not been properly codified in the Code of Federal Regulations. We requested that the Office of the Federal Register publish a correction to update the listing of the Hawaiian hoary bat as it appeared in the February 2, 2023, direct final rule. The Office of the Federal Register's correction published on September 17, 2024, at 89 FR 75976.

Since that time, we discovered our error, and we are correcting it in this document by restoring the listing of the Hawaiian hoary bat to its original scientific name and omitting the common name we included in the February 2, 2023, direct final rule.

List of Subjects in 50 CFR Part 17

Endangered and threatened species, Exports, Imports, Plants, Reporting and recordkeeping requirements, Transportation, Wildlife.

Signing Authority

Martha Williams, Director of the U.S. Fish and Wildlife Service, approved this action on November 26, 2024. Acting Director Steve Guertin approved these packages December 15, 2024. On December 16, 2024, the acting Director authorized the undersigned to sign the document electronically and submit it to the Office of the Federal Register for publication as an official document of the U.S. Fish and Wildlife Service.

Regulation Promulgation

For the reasons given in the preamble, we amend part 17, subchapter B of chapter I, title 50 of the Code of Federal Regulations, as set forth below:

PART 17—ENDANGERED AND THREATENED WILDLIFE AND PLANTS

1. The authority citation for part 17 continues to read as follows:

Authority: 16 U.S.C. 1361-1407; 1531-1544; and 4201-4245, unless otherwise noted.

2. In § 17.11, in paragraph (h), amend the List of Endangered and Threatened Wildlife, under MAMMALS, by revising the entry for “Bat, Hawaiian hoary” to read as follows:

§ 17.11 Endangered and threatened wildlife.

* * * * *

(h) * * *

Common name | Scientific name | Where listed | Status | Listing citations and applicable rules
MAMMALS
* * * * * * *
Bat, Hawaiian hoary | Lasiurus cinereus semotus | Wherever found | E | 35 FR 16047, 10/13/1970.
* * * * * * *

Madonna Baucum,
Regulations and Policy Chief, Division of Policy, Economics, Risk Management, and Analytics of the Joint Administrative Operations, U.S. Fish and Wildlife Service.

[FR Doc. 2024-30368 Filed 12-20-24; 8:45 am]

BILLING CODE 4333-15-P